DEPARTMENT OF TRANSPORTATION

National Highway Traffic Safety Administration

[Docket No. NHTSA 2005-20936]

Civilian Use of, and Requirements for, the Next Generation of GPS for Automotive Safety

AGENCY: National Highway Traffic Safety Administration, DOT.

ACTION: Request for comments.

SUMMARY: The U.S. Department of Transportation (DOT) is working closely with the U.S. Department of Defense (DOD) in modernizing the Global Positioning System (GPS). In this document, the National Highway Traffic Safety Administration (NHTSA) is requesting comments and information to help us determine the civilian specifications for the next generation of the GPS (GPS III) based on future automotive safety needs that could be enhanced by a modernized GPS.

DATES: Comments must be received on or before May 31, 2005.

ADDRESSES: You may submit comments identified by the DOT DMS Docket Number above by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, S.W., Washington, DC, between 9 a.m. and 5 p.m., Monday through Friday, except Federal holidays.

Note that all comments received will be posted without change to http://dms.dot.gov, including any personal information provided.

Docket: For access to the docket to read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Arthur Carter, Office of Vehicle Safety Research, NVS-332, 400 Seventh Street, SW., Washington, DC 20590 (telephone: (202) 366-5669, fax: (202) 366-7237).

SUPPLEMENTARY INFORMATION: The U.S. Department of Transportation (DOT) is working closely with the U.S. Department of Defense (DOD) in modernizing the GPS. This next generation of GPS will be available beginning in approximately 2012, and in use for approximately two decades. Examples of use include the enhanced vehicle positioning information that could be provided by a modernized GPS that would improve the performance of various automotive safety systems such as intersection collision avoidance and road departure prevention. Many of these applications are being developed today based on the existing GPS complemented by inertial sensors and other technologies. The potential for improved performance over the existing GPS could bring new safety applications to save lives and improve efficiency.

To obtain information that will assist it in this process, NHTSA is publishing this document requesting comments and information about automotive safety and other initiatives related to the automotive safety impact of GPS.

Researchers and technical experts from automotive original equipment manufacturers (OEMs), suppliers, and other interested parties are invited to submit technical information that focuses on new or improved safety applications and describes how future GPS specifications would enable or enhance these applications. Overviews of ongoing research programs and descriptions of industry practices related to GPS are also welcome.

In particular, NHTSA requests the specifications for such an upgraded and modernized GPS and discussions of advanced driver assistance systems, postcrash medical attention and other new safety applications that would take advantage of such a system. Some possibilities include how the next generation of GPS could be used for automotive safety purposes, approaches for evaluating the safety impacts of such systems, and what new research and other safety initiatives might be envisioned with an upgraded or modernized GPS system. NHTSA requests the details of specifications for such an upgraded GPS system. Specifications could include coverage, signal strength, accuracy, signal integrity, signal availability, continuity, additional signals in space, changes to orbital parameters, and additional data broadcast from the satellite constellation.

NHTSA will utilize the information in discussions between DOT and DOD to finalize the requirements for the next generation of GPS. The goal of this request is to generate recommendations for the performance capability of the next generation of GPS.

Background. The current GPS consists of three major segments. These are a Space Segment (SS), a Control Segment (CS), and a User Segment (US). GPS is a dual use, military and civil system whose mission is to provide Position, Navigation and Time (PNT) services. GPS provides ranging signals that enable users equipped with properly designed GPS receivers to precisely determine time and their three-dimensional position and velocity.

The increasing utilization of advanced technologies in automobiles brings the promise of enhanced safety and security. GPS, plus other vehicle technologies, could provide safety benefits, such as automatic crash notification directly to emergency medical services, and holds out the promise of additional future safety benefits.

NHTSA has been interested in the potential safety impact of the GPS system on advanced, in-vehicle technologies for a number of years. For example, one project just completed is the Enhanced Digital Mapping (EDMap) project. The goal of the EDMap project was to accelerate the development and deployment of a range of digital map databases or enhancements to existing databases that have sufficient accuracy and reliability to enhance or enable new vehicle safety applications or improve the performance of driver assistance systems under development or consideration by U.S. automakers. GPS was an integral part of this project for both map generation and vehicle positioning within the driver assistance systems.

The potential value of GPS to efficient and effective emergency response has been demonstrated through numerous initiatives, such as the Federal Communication Commission's (FCC) requirements for wireless Enhanced 911 (E911). FCC, requires wireless carriers, upon appropriate request by a local Public Safety Answering Point (PSAP), to provide the PSAP with the telephone number of a wireless 911 caller and the caller's location information, within 50 to 300 meters, using network or handset (GPS) solutions.

Things to Consider: How is GPS used today by the Original Equipment Manufacturers (OEMs) and their suppliers for product development and by the consumer while operating the vehicle? What limitations does GPS have? How are these limitations overcome by the OEMs? How could the satellites and the signals transmitted by them, be redesigned, or upgraded to overcome these limitations or add additional capabilities? How is GPS III envisioned to be used by the OEMs and suppliers in the future?

Written Statements, Presentations, and Comments: The agency has established Docket No. NHTSA-2005-20936 as a repository for information, statements, and comments on issues related to the automotive safety use of GPS. Written or electronic submissions may be made to this docket at any time.

We will consider all comments that Docket Management receives before the close of business on the comment closing date indicated above under DATES. To the extent possible, we will also consider comments that Docket Management receives after that date.

For written materials, two copies should be submitted to Docket Management at the address given at the beginning of this document. The materials must not exceed 15 pages in length (49 CFR 553.21). Necessary attachments may be appended to the submissions without regard to the 15-page limit. This limitation is intended to encourage commenter to detail their information in a concise fashion.

If a commenter wishes to submit certain information under a claim of confidentiality, three copies of the complete submission, including purportedly confidential business information, should be submitted to the Chief Counsel, NHTSA, at 400 Seventh Street, SW., Washington, DC 20590. Additionally, two copies of the above document from which the purportedly confidential information has been deleted should be submitted to Docket Management. A request for confidentiality should be accompanied by a cover letter setting forth the information specified in the agency's confidential business information regulation, 49 CFR part 512.

How Can I Read Comments Submitted by Other People?

You may read the comments received by Docket Management at the address given above under ADDRESSES. The hours of the Docket are indicated above in the same location.

You may also review filed public comments on the Internet. To read the comments on the Internet, take the following steps:

(1) Go to the Docket Management System (DMS) Web page of the Department of Transportation (http://dms.dot.gov/).

(2) On that page, click on “search.”

(3) On the next page (http://dms.dot.gov/search/), type in the four-digit docket number shown at the beginning of this document. (Example: If the docket number were “NHTSA-2002-1234,” you would type “1234.”) After typing the docket number, click on “search.”

(4) On the next page, which contains docket summary information for the docket you selected, click on the desired comments. You may download the comments.

Please note that even after the comment closing date, we will continue to file relevant information in the Docket as it becomes available. Furthermore, some people may submit late comments. Accordingly, we recommend that you periodically check the Docket for new material.

Privacy Act. Please note that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78), or you may visit http://dms.dot.gov.

Issued: April 7, 2005.
Joseph N. Kanianthra,
Associate Administrator for Vehicle Safety Research.

[FR Doc. 05-7434 Filed 4-12-05; 8:45 am]

BILLING CODE 4910-59-P